DEPARTMENT OF HOMELAND SECURITY

Federal Emergency Management Agency

[FEMA-1711-DR]

Kansas; Amendment No. 3 to Notice of a Major Disaster Declaration

AGENCY: Federal Emergency Management Agency, DHS.

ACTION: Notice.

SUMMARY: This notice amends the notice of a major disaster declaration for the State of Kansas (FEMA-1711-DR), dated July 2, 2007, and related determinations.

DATES: Effective Date: July 18, 2007.

FOR FURTHER INFORMATION CONTACT: Peggy Miller, Disaster Assistance Directorate, Federal Emergency Management Agency, Washington, DC 20472, (202) 646-2705.

SUPPLEMENTARY INFORMATION: The notice of a major disaster declaration for the State of Kansas is hereby amended to include the following areas among those areas determined to have been adversely affected by the catastrophe declared a major disaster by the President in his declaration of July 2, 2007.

Crawford and Greenwood Counties for Individual Assistance.

Anderson, Bourbon, Butler, Chautauqua, Cherokee, Coffey, Franklin, Osage, and Woodson Countries for Individual Assistance (already designated for emergency protective measures [Category B], limited to direct Federal assistance under the Public Assistance program.)

Crawford, Greenwood, and Harper Counties for Public Assistance.

Labette County for Public Assistance (already designated for Individual Assistance.)

Allen, Cowley, Elk, Linn, Miami, Montgomery, Neosho, and Wilson Counties for Public Assistance (already designated for Individual Assistance and emergency protective measures [Category B], limited to direct Federal assistance under the Public Assistance program.)

Anderson, Bourbon, Butler, Chautauqua, Cherokee, Coffey, Franklin, Osage, and Woodson Counties for Public Assistance (already designated for emergency protective measures [Category B], limited to direct Federal assistance under the Public Assistance program.)

(The following Catalog of Federal Domestic Assistance Numbers (CFDA) are to be used for reporting and drawing funds: 97.030, Community Disaster Loans; 97.031, Cora Brown Fund Program; 97.032, Crisis Counseling; 97.033, Disaster Legal Services Program; 97.034, Disaster Unemployment Assistance (DUA); 97.046, Fire Management Assistance; 97.048, Individuals and Households Housing; 97.049, Individuals and Households Disaster Housing Operations; 97.050 Individuals and Households Program-Other Needs; 97.036, Public Assistance Grants; 97.039, Hazard Mitigation Grant Program.

R. David Paulison,
Administrator, Federal Emergency Management Agency.

[FR Doc. E7-14632 Filed 7-27-07; 8:45 am]

BILLING CODE 9110-10-P